NATIONAL CREDIT UNION ADMINISTRATION

The NCUA Staff Draft 2019-2020 Budget Justification

AGENCY: National Credit Union Administration (NCUA).

ACTION: Notice.

SUMMARY: The NCUA draft detailed business-type budget is being made available for public review as required by federal statute. The proposed resources will support the agency's annual operations and continue implementation of the agency's reorganization plan. The briefing schedule and comment instructions are included in the supplementary information section.

DATES: Requests to deliver a statement at the budget briefing must be received on or before Tuesday, October 9, 2018. Written statements and presentations for those scheduled to appear at the budget briefing must be received on or before Monday, October 15, 2018.

Written comments without public presentation at the budget briefing may be submitted by Friday, October 26, 2018.

ADDRESSES: You may submit comments by any of the following methods (Please send comments by one method only):

• Presentation at public budget briefing: Submit requests to deliver a statement at the briefing to BudgetBriefing@ncua.gov by Tuesday, October 9, 2018. Include your name, title, affiliation, mailing address, email address, and telephone number. Copies of your presentation must be submitted to the same email address by Monday, October 15, 2018.

• Written comments: Submit comments to BudgetComments@ncua.gov by Friday, October 26, 2018. Include your name and the following subject line “Comments on the NCUA Draft 2019-2020 Budget Justification.”

Public Inspection: Copies of the NCUA Draft 2019-2020 Budget Justification and associated materials are also available on the NCUA website at https://www.ncua.gov/About/Pages/budget-strategic-planning/supplementary-materials.aspx. Printed copies will be available at the October 17, 2018 budget briefing.

FOR FURTHER INFORMATION CONTACT: Rendell Jones, Chief Financial Officer, National Credit Union Administration, 1775 Duke Street, Alexandria, Virginia 22314-3428 or telephone: (703) 518-6571.

SUPPLEMENTARY INFORMATION:

I. The NCUA Budget in Brief

II. Introduction and Strategic Context

III. Forecast and Enterprise Challenges

IV. Key Themes of the 2019-2020 Budget

V. Operating Budget

VI. Capital Budget

VII. Share Insurance Fund Administrative Budget

VIII. Financing the NCUA Budget

IX. Appendix A: Supplemental Budget Information

X: Appendix B: Capital Projects

Section 212 of the Economic Growth, Regulatory Relief, and Consumer Protection Act (Pub. L. 115-174) amended 12 U.S.C. 1789(b)(1)(A) to require the NCUA Board (Board) to “make publicly available and publish in the Federal Register a draft of the detailed business-type budget.” Although 12 U.S.C. 1789(b)(1)(A) requires publication of a “business-type budget” only for the agency operations arising under the Federal Credit Union Act's subchapter on insurance activities, in the interest of transparency the Board is providing the agency's entire staff draft 2019-2020 Budget Justification (budget) in this Notice.

The draft budget details the resources required to support NCUA's mission as outlined in its 2018-2022 Strategic Plan. The draft budget includes personnel and dollar estimates for three major budget components: (1) The Operating Budget; (2) the Capital Budget; and (3) the Share Insurance Fund Administrative Budget. The resources proposed in the draft budget will be used to carry out the agency's annual operations and to continue implementation of the agency's reorganization plan.

The NCUA staff will present its draft budget to the Board at a budget briefing open to the public and scheduled for Wednesday, October 17, 2018 at 10 a.m. Eastern. The budget briefing will be held in the NCUA Board meeting room and run for approximately two hours. A livestream of the briefing also will be available through a link on ncua.gov.

If you wish to attend the briefing and deliver a statement, you must email a request to BudgetBriefing@ncua.gov by Tuesday, October 9, 2018. Your request must include your name, title, affiliation, mailing address, email address, and telephone number. The NCUA will work to accommodate as many public statements as possible at the October 17, 2018 budget briefing. The Board Secretary will inform you if you have been approved to make a presentation and how much time you will be allotted. A written copy of your presentation must be delivered to the Board Secretary via email at BudgetBriefing@ncua.gov by Monday, October 15, 2018.

Written comments on the draft budget will also be accepted by email at BudgetComments@ncua.gov until Friday, October 26, 2018. Include your name and the following subject line with your comments: “Comments on the NCUA Draft 2019-2020 Budget Justification.”

All comments should provide specific, actionable recommendations rather than general remarks. The Board will review and consider any comments from the public prior to approving the budget.

I. The NCUA Budget in Brief

Proposed 2019 and 2020 Budgets

The goals and objectives set forth in the National Credit Union Administration's (NCUA) Strategic Plan 2018-2022 (https://www.ncua.gov/About/Documents/AgendaItems/AG20160721Item2b.pdf) form the basis for determining agency resource needs and allocations. The annual budget provides the resources to execute the strategic plan, to implement the agency reorganization, and to undertake the NCUA's major programs: Examination and supervision, insurance, credit union development, consumer financial protection, and asset management.

The NCUA's 2019-2020 budget justification consists of three separate budgets: The Operating Budget, the Capital Budget, and the Share Insurance Fund Administrative Budget. Combined, these three budgets total $334.8 million for 2019, which is 1.1 percent more than the 2019 funding level approved by the NCUA Board (the Board) in November 2017, and 4.3 percent more than the comparable 2018 Board Approved Budget. Personnel levels for 2019 and 2020 reflect the agency's expected staffing after completing implementation of its reorganization plan, and are lower than the 2018 levels by 10 positions.

Operating Budget

The proposed 2019 Operating Budget is $304.4 million. Personnel levels decrease by ten full-time equivalents (FTE) compared to the 2018 Board Approved Budget.

The 2019 Operating Budget, when adjusted for inflation, represents a real dollar decrease of approximately $624,000, or 0.2 percent, compared to the 2018 Board Approved Budget. In nominal dollars, the 2019 Budget increases by $6.3 million, or 2.1 percent, over the 2018 Board Approved Budget of $298.1 million.

The Operating Budget estimate for 2020 is $316.2 million and reflects no change to authorized positions.

The following chart shows recent year-on-year trends for the NCUA Operating Budget, in both nominal (green line) and real dollar (blue line, inflation-adjusted) terms:

The following chart presents the major categories of spending supported by the 2019 budget, while specific adjustments to the 2018 Board Approved Budget are discussed in further detail, below:

Staffing. The budget supports 1,178 FTE in 2019, a decrease of ten FTEs from 2018. For 2019, the reorganization plan eliminated 15 positions in the NCUA's regional offices, and the budget proposes five new positions in the Offices of Examination and Insurance, the Chief Economist, and the General Counsel. Three positions focused on Business Innovation will be filled by reallocating vacancies. As shown in the chart below, the NCUA staffing has decreased in recent years despite significant credit union asset growth.

Pay and Benefits. Pay and benefits increase by $2.1 million in 2019, or one percent, for a budget of $222.8 million. This increase supports the merit and locality pay adjustments required by the NCUA's current collective bargaining agreement, the new positions described above, anticipated staff promotions, position changes, and increased costs for other mandatory employer contributions such as health insurance and retirement contributions. The 2020 pay and benefits budget is estimated at $233.6 million, which reflects increases associated with merit and locality pay inflation, the full cost of new positions added in 2019, and an increase in required retirement fund payments to the Office of Personnel Management (OPM), which manages government employees' retirement programs for nearly all federal agencies.

The Federal Employees Retirement System (FERS) covers most NCUA employees and includes a defined pension benefit, which is funded by both employee and employer contributions. OPM will charge the NCUA a mandatory employer contribution of 13.7 percent of total FERS employee salaries in 2019, which will increase to 16 percent in 2020, a change of 230 basis points. This increase will require the NCUA to pay OPM approximately $3.5 million more in retirement contributions in 2020. Excluding additional employer contributions from the 2020 budget, total personnel compensation growth would be 3.3 percent instead of 4.8 percent, and total Operating Budget growth would be 2.7 percent instead of 3.9 percent.

Travel. The travel budget increases by $326,000 in 2019, or one percent, for a budget of $26.8 million. The NCUA has constrained the growth of travel costs by continuing to expand offsite examination work and use technology-driven training. Government-wide per diem rates published by the General Services Administration (GSA) are expected to increase by almost eight percent in 2019, accounting for a significant share of the travel budget growth. The NCUA plans to hold a national program examination training event in 2020 that will coincide with full deployment of the new Examination and Supervision Solution system.

Rent, Communications, and Utilities. Rent, communications, and utilities will decrease by $445,000 in 2019, or five percent, for a budget of $8.0 million. This funding pays for essential telecommunications services, data capacity contracts, and information technology network support. The decrease is primarily due to a reduction in leased office space as a result of regional consolidation.

Administrative Expenses. Administrative expenses increase by $1.2 million in 2019, or 16 percent, for a total budget of $8.7 million. Increases are attributable to recurring cost items such as shared Federal Financial Institutions Examination Council fees, relocation expenses, and software licenses.

Contracted Services. Contracted services expenses increase by $3.1 million in 2019, or nine percent, for a total budget of $38.1 million. This funding pays for products and services acquired in the commercial marketplace, and includes critical mission support services such as information technology hardware and software support, accounting and auditing services, and specialized subject matter expertise. The increase of information technology operations and maintenance, and mandatory accounting system service provider costs are the primary drivers of the increase.

Capital Budget

The proposed 2019 Capital Budget is $22.0 million.

The 2019 Capital Budget is $0.9 million more than the 2019 funding level approved by the Board in November 2017, and $6.6 million more than the 2018 Board Approved Budget.

The Capital Budget pays for continued investments in technology and infrastructure projects, as well as several new initiatives that will start in 2019, including a replacement of the agency's antiquated AIRES examination software, which is used by both federal and state examiners in almost all credit union examinations. The NCUA's Information Technology Prioritization Council recommended $17.1 million for IT software development projects that continue to replace the NCUA's decades-old and functionally obsolete information technology systems, and $4 million in other IT investments for 2019. The NCUA facilities require $0.9 million in capital investments.

Share Insurance Fund Administrative Expenses

The proposed 2019 Share Insurance Fund Administrative budget is $8.4 million.

The 2019 Share Insurance Fund Administrative Budget is $0.9 million more than the 2019 funding level approved by the Board in November, 2017, and $0.3 million more than the 2018 Board Approved Budget. The increase is primarily attributed to increased use of consultants and contractor support for credit union stress testing. Direct charges within this budget include administration of the NCUA Guaranteed Note (NGN) program, state examiner training and laptop leases, as well as financial audit support.

Budget Trends

Since 2017, inflation has matched or outpaced the growth of the NCUA budget. While the NCUA's annual Operating Budget is projected to increase 2.1 percent from 2018 to 2019, inflation is forecast to be 2.3 percent. Therefore, in real dollar terms, the NCUA Operating Budget is 0.2 percent lower in 2019 than in 2018 (i.e., 2.1 percent budgetary growth less 2.3 percent inflation). Likewise, the projected 2.7 percent total budget growth between 2019 and 2020 represents an inflation-adjusted increase of only 0.4 percent, based on the assumption that 2020 economic inflation remains constant at 2.3 percent (i.e., 2.7 percent budgetary growth less 2.3 percent inflation).

In addition, as shown in the chart below, the relative size of the NCUA budget (red line) continues to decline when compared to balance sheets at federally-insured credit unions (gray line). This trend illustrates the greater operating efficiencies the NCUA has attained in the last several years. Additionally, the NCUA has improved its operating efficiencies more aggressively than other financial industry regulators (red line compared to blue line).

It is also notable that the NCUA's operations have become more efficient relative to the size of the credit union system because consolidation in the industry has led to growth in the number of large credit unions, specifically those with more than $10 billion in assets. This results in additional complexity in the balance sheets of such credit unions, and a corresponding increase in the supervisory review required to ensure the safety and soundness of such large institutions. The NCUA has responded to this increasing complexity through several initiatives: Creation of the specialized Office of National Examination and Supervision (ONES), development of an improved analytic model for large credit unions' financial condition, and improved quality of examination reports through enhanced quality review processes.

2019 Budget in Brief: Summary Table

BILLING CODE 7535-01-P

BILLING CODE 7535-01-C

II. Introduction and Strategic Context

History

For more than 100 years, credit unions have provided financial services to their members in the United States. Credit unions are unique depository institutions created not for profit, but to serve their members as credit cooperatives.

The NCUA is the independent federal agency created by the U.S. Congress to regulate, charter, and supervise federal credit unions. With the backing of the full faith and credit of the U.S. Government, the NCUA operates and manages the National Credit Union Share Insurance Fund (NCUSIF), insuring the deposits of the account holders in all federal credit unions and the vast majority of state-chartered credit unions.

The NCUA, through its predecessors, was created in 1934 with the passage of the Federal Credit Union Act. As the products and services provided to members of credit unions changed over the years, the NCUA's supervision and regulation evolved as well. In 1970, Congress created the NCUSIF to protect deposits by providing the backing of the full faith and credit of the U.S. Government to credit union accounts. No credit union member has ever lost a penny of deposits insured by the NCUSIF.

The NCUA is responsible for the regulation and supervision of 5,480 federally insured credit unions ¹ with approximately 114.1 million members ¹ and more than $1.4 trillion ¹ in assets across all states and U.S. territories.

¹ Source: The NCUA quarterly call report data, Q2 2018.

Authority

Pursuant to the Federal Credit Union Act, authority for management of the NCUA is vested in the NCUA Board (the Board). It is the Board's responsibility to determine the resources necessary to carry out the NCUA's responsibilities under the Act.² The Board is authorized to expend such funds and perform such other functions or acts as it deems necessary or appropriate in accordance with the rules, regulations, or policies it establishes.³

² See 12 U.S.C. 1752a(a).

³ See 12 U.S.C. 1766(i)(2).

Upon determination of the budgeted annual expenses for the agency's operations, the Board determines a fee schedule to assess federal credit unions. The Board gives consideration to the ability of federal credit unions to pay such a fee, and the necessity of the expenses the NCUA will incur in carrying out its responsibilities in connection with federal credit unions.⁴ Pursuant to the law, fees collected are deposited in the agency's Operating Fund at the Treasury of the United States, and those fees are expended by the Board to defray the cost of carrying out the agency's operations, including the examination and supervision of federal credit unions.⁵ In accordance with its authority to use the NCUSIF to carry out a portion of its responsibilities, the Board approves an annual Overhead Transfer Rate and transfers resources from the Share Insurance Fund to the Operating Fund on a monthly basis to account for insurance-related expenses.⁶

⁴ See 12 U.S.C. 1755(a)-(b).

⁵ See 12 U.S.C. 1755(d).

⁶ See 12 U.S.C. 1783(a).

Mission, Goals, and Strategy

The NCUA's 2019-2020 Budget Submission supports the agency's second year implementing its 2018-2022 Strategic Plan (https://www.ncua.gov/About/Documents/AgendaItems/AG20160721Item2b.pdf) to achieve its priorities and improve program performance.

Throughout 2019 and 2020, the NCUA will continue fulfilling its mission to “provide, through regulation and supervision, a safe and sound credit union system which promotes confidence in the national system of cooperative credit,” and its vision to ensure that the “NCUA protects credit unions and consumers who own them through effective supervision, regulation and insurance.” This budget commits the resources necessary to implement the NCUA's plans to identify key challenges facing the credit union industry and leverage agency strengths to help credit unions address those challenges.

The budget supports the NCUA's programs, which are focused on achieving the agency's three strategic goals:

Ensure a safe and sound credit union system;

Provide a regulatory framework that is transparent, efficient, and improves consumer access; and

Maximize organizational performance to enable mission success.

Additional information about alignment of the budget to the NCUA's strategic goals is in Appendix A.

In support of its first strategic goal—ensure a safe and sound credit union system—the NCUA will continue to supervise federally insured credit unions effectively while insuring a growing and evolving credit union system. As highlighted in the Strategic Plan, the credit union system faces several key risks, including:

• How credit unions respond to a changing economic environment,

• technological changes in how consumers interact with financial institutions, in addition to more general technological advances,

• increasing competition and consolidation within the financial services industry,

• demographic shifts, such as aging credit union membership,

• forecasts that the U.S. population will become more diverse, implying changes in the services needed by credit union members, and

• generational shifts in consumer preferences.

Each risk requires continual monitoring and, where prudent, risk-mitigation strategies to protect the overall credit union system from preventable losses or failures. The NCUA staff of credit union examiners are the agency's most important assets for identifying and addressing risks before they threaten members' deposits. To do their jobs effectively in this complex and dynamic financial environment, the NCUA staff require the advanced skills, training, and tools supported by the budget.

To fulfill the NCUA's second strategic goal—provide a regulatory framework that is transparent, efficient, and improves customer access—the agency strives to issue balanced, clear, and straightforward regulations while addressing emerging adverse trends in a timely manner. The NCUA also seeks to improve consumer access and ensure consumer compliance, financial protection, and consumer education. The budget allocates resources to agency programs that keep regulations up to date and consistent with current law, assist existing and prospective credit unions with expansion and new chartering activities, and promote consumer awareness of sound financial practices.

Accomplishing the third strategic goal—maximize organizational performance to enable mission success—ensures the NCUA employees achieve the agency's mission by supporting them through efficient and effective business processes, modern and secure technology, and suitable tools and workspaces necessary to perform their duties. The budget makes investments in better process management and internal controls, improved tools and facilities for the NCUA staff, and technological enhancements including new systems that will improve operational effectiveness and efficiency.

Organization, Major Agency Programs, and Workforce

The NCUA employs regional offices to perform all the tasks in the agency's major program areas and support functions, a central office to administer and oversee its programs, and an Asset Management and Assistance Center (AMAC) to liquidate failed credit unions and recover assets.

Effective January 2019, the NCUA plans to consolidate its five regional offices into three—Eastern, Southern, and Western—as part of its on-going effort to strengthen agency operations while increasing efficiency. Reporting to these regional offices, the NCUA has credit union examiners responsible for a portfolio of credit unions covering all 50 states, the District of Columbia, Guam, Puerto Rico, and the U.S. Virgin Islands. One-time costs associated with the NCUA reorganization are being funded by reprioritizing unspent balances from 2017 and 2018 budgets. These costs include: Salaries and benefits for current employees whose positions will be eliminated after their separation from the agency, leased office space in Albany, New York and Atlanta, Georgia that will be vacated at the end of 2018, central office renovation costs necessary to consolidate the former Region II office staff into the NCUA-owned central office building, and other miscellaneous one-time relocation, separation, and other contractual payments.

The NCUA organizational chart below reflects the new regional structure, and the map shows the new regions' geographical alignment:

BILLING CODE 7535-01-P

BILLING CODE 7535-01-C

The NCUA's new regional office structure will carry out the agency's 2019 examination workload. Based on second quarter statistics from call reports, the number of credit unions, members, and assets shows a rough estimate of the how the workload will be divided among the new regional offices:

• Eastern Region: 2,055 credit unions with 30.6 million members and $386 billion in assets.

• Southern Region: 1,668 credit unions with 31.2 million members and $340 billion in assets.

• Western Region: 1,751 credit unions with 37.4 million members and $504 billion in assets.

In addition, the Office of National Examination and Supervision (ONES) will continue to examine credit unions with assets that total over $10 billion and that are located throughout the United States. Based on 2018 second quarter call report statistics, there are currently six such credit unions with 14.8 million members, accounting for $200 billion in credit union assets.

In 2019 and 2020, the agency's workforce will undertake tasks in all of the NCUA's major programs:

• Supervision: The NCUA supervises federally insured credit unions through examinations and regulatory enforcement including providing guidance through various publications, taking administrative actions and conserving, liquidating, or merging severely troubled institutions as necessary to manage risk.

• Insurance: The NCUA manages the $16 billion NCUSIF, which provides insurance for deposits up to $250,000 that are held at federally insured credit unions. The fund is capitalized by credit unions and through retained earnings.

• Credit Union Development: The NCUA charters new federal credit unions, as well as approves modifications to existing charters and fields of membership. Through training, partnerships and resource assistance, the NCUA fosters credit union development, particularly the expansion of services to eligible members provided by small, minority, newly chartered, and low-income designated credit unions.

• Consumer Financial Protection: The NCUA protects consumers' rights through effective enforcement of federal consumer financial protection laws, regulations, and requirements. The NCUA also develops and promotes financial education programs for credit unions to assist members in making smarter financial decisions.

• Asset Management: The NCUA conducts credit union liquidations and performs management and recovery of assets through the AMAC. The new Southern Region includes AMAC.

• Stakeholder Outreach: In order to clearly understand the needs of the credit union system, the NCUA seeks input from all of its stakeholders, including Congress, State Supervisory Authorities, credit union members, credit unions and their associations.

• Cross-Agency Collaboration: The NCUA is involved in numerous cross-agency initiatives by collaborating with the other financial regulatory agencies including through participation in several councils. Significant councils include the Financial Stability Oversight Council (FSOC), the Federal Financial Institutions Examination Council (FFIEC), and the Financial and Banking Information Infrastructure Committee (FBIIC).

Budget Process—Strategy to Budget

The NCUA's budget process starts with a review of the agency's goals and objectives set forth in the Strategic Plan (https://www.ncua.gov/About/Documents/AgendaItems/AG20160721Item2b.pdf). The Strategic Plan is a framework that sets the agency's direction and guides resource requests, so that the agency's resources and workforce are allocated and aligned to agency priorities and initiatives.

Each regional and central office director at the NCUA develops an initial budget request identifying the resources for their office to support the NCUA's mission, strategic goals, and strategic objectives. These budgets are developed to ensure each office's requirements are individually justified and remain consistent with the agency's overall Strategic Plan.

For regional offices, one of the primary inputs in the development process is a comprehensive workload analysis that estimates the amount of time necessary to conduct examinations and to supervise federally insured credit unions in order to carry out the NCUA's dual mission as insurer and regulator. This analysis starts with a field-level review of every federally insured credit union to estimate the number of workload hours needed for the current year. The workload estimates are then refined by regional managers and submitted to the NCUA central office for the annual budget proposal. The workload analysis accounts for the efforts of nearly seventy percent of the NCUA workforce and is the foundation for budget requests from regional offices and the Office of National Examinations and Supervision (ONES).

In addition to the workload analysis, from which central office budget staff derive related personnel and travel cost estimates, each of the NCUA offices submit estimates for fixed and recurring expenses, such as rental payments for leased property, operations and maintenance for owned facilities or equipment, supplies, telecommunications services, major capital investments, and other administrative and contracted services costs.

Because information technology investments impact all offices within the agency, the NCUA has established an Information Technology Prioritization Council (ITPC). The ITPC meets several times each year to consider, analyze, and prioritize major information technology investments to ensure they are aligned with the NCUA's Strategic Plan. These focused reviews result in a mutually agreed-upon budget recommendation to support the NCUA's top short-term and long-term information technology needs and investment priorities.

Once compiled for the entire agency, all office budget submissions undergo thorough reviews by the responsible regional and central office directors, the Chief Financial Officer, and the NCUA executive leadership. Through a series of presentations and briefings by the relevant office executives, the NCUA Executive Director formulates an agency-wide budget recommendation for approval by the Board.

In recent years, the Board has emphasized the need for increased transparency of the NCUA's finances and its budgeting processes. In response, the Office of the Chief Financial Officer has made draft budgets available for public comment via the NCUA's website, and solicited public comments before presenting final budget recommendations for the Board's approval. Furthermore, the Economic Growth, Regulatory Relief, and Consumer Protection Act, Public Law 115-174, enacted May 24, 2018, requires in Section 212 that the NCUA “make publicly available and publish in the Federal Register a draft of the detailed business-type budget.” To fulfill this requirement, the Board delegated to the Executive Director the authority to publish the draft budget before submitting it for Board review.

This budget justification document includes comparisons to the Board approved budget for 2018—2019. As in the 2018 budget, this document includes a summary description of the major spending items in each budget category to provide transparency and understanding of the use of budgeted resources. Estimates are provided by major budget category, office, and cost element.

The NCUA also posts supporting documentation for its budget request on the NCUA website (https://www.ncua.gov/About/Pages/budget-strategic-planning/supplementary-materials.aspx) to assist the public in understanding its budget development process. The budget request for 2019 represents the NCUA's projections of operating and capital costs for the year, and is subject to approval by the Board.

Commitment to Financial Stewardship

The NCUA funds its activities through operating fees levied on all federal credit unions and through reimbursements from the Share Insurance Fund, funded by both federal credit unions and federally insured state-chartered credit unions. The Overhead Transfer Rate (OTR) calculation determines the annual amount that the Share Insurance Fund reimburses the Operating Fund to pay for the NCUA's insurance-related activities. At the end of each calendar year, the NCUA's financial transactions are subject to audit in accordance with Generally Accepted Accounting Principles.⁷

⁷ See 12 U.S.C. 1783(b) and 1789(b).

Since nearly all of the revenue to finance the NCUA's programs comes from non-profit credit unions, the Board and the agency are committed to providing sound financial stewardship. In recent years, the NCUA Chief Financial Officer, with support and direction from the Executive Director and Board, has worked to improve the NCUA's financial management, financial reporting, and budget processes. In addition, through prudent management of the Corporate System Resolution Program, in July 2018 the NCUA paid nearly $736 million in dividends to over 5,700 credit unions—an amount larger than the cumulative total of all previous cash distributions made since the agency's Share Insurance Fund was created.

In the 2018 budget, the NCUA revised its financial presentations to conform to Federal budgetary concepts and increase transparency of the agency's planned financial activity. The 2019 budget continues this presentation. The NCUA is the only Financial Institutions Reform, Recovery, and Enforcement Act (FIRREA) agency that publishes a detailed, draft budget and solicits public comments on it at a meeting with its Board or other agency leadership.

The NCUA works diligently to strengthen its internal controls for financial transactions, in accordance with sound financial management policies and practices. Based on the results of the NCUA's assessments conducted through the course of 2017, the agency provided an unmodified Statement of Assurance (signed 2/15/2018) that its management had established and maintained effective controls to achieve the objectives of the Federal Managers Financial Integrity Act (FMFIA) and Office of Management and Budget (OMB) Circular A-123. Specifically, the NCUA supports the internal control objectives of reporting, operations, and compliance, as well as its integration with overarching risk management activities. Within the Office of the Chief Financial Officer, the Internal Controls Assessment Team (ICAT) continues to mature the agency-wide internal control program and continues to strengthen the overall system of internal control, further promote the importance of identifying risk, and ensure that the agency has identified appropriate responses to mitigate identified risks, in accordance with the Government Accountability Office (GAO) Standards for Internal Controls in Federal Government (Green Book) requirements.

III. Forecast and Enterprise Challenges

Economic Outlook

The NCUA's mission is to provide, through regulation and supervision, a safe and sound credit union system, which promotes confidence in the national system of cooperative credit. The challenges that the NCUA faces, and the resources the NCUA requires to fulfill its mission, depend on a variety of factors that directly or indirectly affect the health of the credit union system. The NCUA must anticipate, to the extent possible, developments that will affect the system, develop strategies, plans and processes to meet both the current and anticipated needs, and assemble the resources, including staff, necessary to ensure a safe and sound system.

One key determinant of credit union performance is the underlying economic environment in which they must operate. In general, for the past few years, the economy has supported solid financial system performance. The economy performed well in the first half of 2018. Real GDP grew at a relatively strong 3.2 percent annual rate, and the unemployment rate dipped below 4.0 percent—near or below the full-employment rate. Inflation edged higher, moving closer to the Federal Reserve's 2-percent inflation target, and Federal Reserve policymakers raised short-term interest rates. Longer-term rates also increased but a variety of factors have kept them from moving in lock-step with shorter-term rates.

With the support of a solid economic foundation, credit union lending, membership growth, and credit quality remained strong through the second quarter of 2018. Federally insured credit unions added 4.8 million members over the year, boosting credit union membership to 114.1 million in the second quarter of 2018. Credit union shares and deposits rose 5.4 percent over the year to $1.2 trillion. Total loans outstanding at federally insured credit unions increased 9.8 percent to $1.0 trillion, and the system-wide loan delinquency rate fell to 67 basis points, down from 75 basis points a year earlier. The credit union system's return on average assets rose to 90 basis points, and the system's net worth ratio increased to just over 11 percent in the second quarter.

The consensus of forecasters suggests the economic environment will continue to be a solid support to credit union performance over the 2019-2020 budget horizon. Forecasts for the next two years call for somewhat slower economic growth. Employment is projected to continue to rise and the unemployment rate—already below the level associated with full employment—is expected to remain low. Tight labor market conditions are projected to keep inflation near the Federal Reserve's 2.0 percent target. Solid economic conditions should remain a positive force for credit union lending, membership growth, and credit quality over the budget horizon.

However, analysts caution that the tight labor market conditions and higher inflation could be associated with higher interest rates. Federal Reserve policymakers indicate that the federal funds rate could move higher over the next three years to fulfill their dual mandate of maintaining maximum employment and low inflation. Analysts are projecting that short term interest rates—which largely determine interest payments credit unions make—could rise relative to longer term interest rates, which largely determine the interest payments credit unions receive.

In the consensus projected economic environment, credit unions' ability to manage and mitigate interest rate risk will become increasingly important to their success. On the liability side, rising deposit rates, if realized, could force credit unions to adapt more quickly than in the past, since many members have a number of financial institution alternatives and can move funds quickly between institutions.

On the asset side, the low interest rate environment of the past decade has led some credit unions to lengthen the term of investments to boost their portfolio's earnings or to lock in relatively low rates on long-term loans like mortgages. For affected credit unions, higher deposit rates will push up against low loan rates, which would compress net interest margins.

While the overall forecast appears largely supportive of credit unions, forecasts of the economic environment are far from perfect. Some analysts are suggesting the long expansion could end during the NCUA 2019-2020 budget period; a recession would pose significant challenges to the system in terms of rising delinquencies, reduced loan demand, and, potentially, an increase in shares as consumers move funds from riskier investments into safer, insured credit union deposits. The NCUA, like the credit unions themselves, needs to plan and prepare for a range of economic outcomes that could affect credit union performance and determine resource needs.

In addition to risks associated with movements in the general economy, the NCUA and credit unions will need to understand their increasing exposure to, and address risks associated with, the technological and structural changes facing the system. Over the longer-term, increased concentration of loan portfolios, development of alternative loan and deposit products, technology-driven changes in the financial landscape, continued industry consolidation, and ongoing demographic changes will continue to shape the environment facing credit unions and will determine the resource needs of the NCUA.

Cybersecurity: Credit unions' increasing use of technology is making the credit union system more vulnerable to cyber-attacks. The prevalence of malware, ransomware, distributed denial of service (DDOS) attacks, and other forms of cyber intrusion are creating challenges at credit unions of all sizes, and will require ongoing measures for containment. These trends are likely to continue, and even accelerate, over the next two years.

Lending trends: Increasing concentrations in member business loans and private student loans, in addition to other new types of lending by credit unions, emphasize the need for long-term risk diversification and effective risk management tools and practices, along with expertise to properly manage increasing concentrations of risk.

Financial Landscape and Technology: New financial products that mimic deposit and loan accounts, such as Apple Pay, Walmart pre-paid cards and peer-to-peer lending, are emerging. These new products pose a competitive challenge to credit unions and banks alike. Credit unions also face a range of challenges from financial technology (fintech) companies in the areas of lending and the provision of other services. For example, underwriting and lending may be automated at a cost below levels associated with more traditional financial institutions, but may not be subject to the same regulations and safeguards that credit unions and other traditional financial institutions face. The emergence and increasing importance of digital currencies may pose both risks and opportunities for credit unions. As these institutions and products gain popularity, credit unions may have to be more active in marketing and rethink their business models.

Technological changes outside the financial sector may also lead to changes in consumer behavior that indirectly affect credit unions. For example, the increase in on-demand use of auto services and the potential for pay-as-you-go on-demand vehicle rental, could reduce purchases of consumer-owned vehicles. That could lead to a slowdown or reduction in the demand for vehicle loans, now slightly more than a third of the credit union system loan portfolio.

Membership trends: While overall credit union membership continues to grow strongly, 50 percent of federally insured credit unions had fewer members at the end of the second quarter of 2018 than a year earlier. Demographic and field of membership changes are likely to continue to result in declining membership at many credit unions. All credit unions need to consider whether their product mix is consistent with their members' needs and demographic profile. For example, in some areas, to be effective, credit unions may need to explore how to meet the needs of an aging population or of a growing Hispanic population.

Smaller credit unions' challenges and industry consolidation: Small credit unions face challenges to their long-term viability for a variety of reasons, including weak earnings, declining membership, high loan delinquencies, and elevated non-interest expenses. If current consolidation trends persist, there will be fewer credit unions in operation and those that remain will be considerably larger and more complex. As of June 30, 2018, there were 542 federally insured credit unions with assets of at least $500 million, 28 percent more than just five years earlier. These 542 credit unions accounted for 71 percent of credit union members and 77 percent of credit union assets. Large credit unions tend offer more complex products, services and investments. Increasingly complex institutions will pose management challenges for the institutions themselves, as well as the NCUA; consolidation means the risks posed by individual institutions will become more significant to the Share Insurance Fund.

Enterprise Risk Management

In light of the strategic direction and the challenges and issues described above, the NCUA employs an Enterprise Risk Management (ERM) program. The ERM program is a means by which agency leadership evaluates the various factors (both internal to the agency and external in the industry) that can impact the agency's performance relative to its mission, vision, and performance outcomes. Agency priority risks include both internal consideration such as the agency's internal controls framework, to external factors such as credit union concentration risk. All of these risks can materially impact the agency's ability to achieve its mission.

The NCUA's ERM Council provides oversight of the agency's enterprise risk management activities. Through the ERM program, the agency is identifying and managing risks that could affect the achievement of its mission. The ERM program was established in 2015 to include an enterprise risk appetite statement and risk taxonomy. In 2018, the NCUA identified a number of enterprise risks that helped inform the agency's planning and budget processes, and assigned roles and responsibilities for monitoring risks in several specific activities. Overall, the NCUA's ERM program promotes effective internal controls, which, when combined with robust measurement and communication, are central to cost-effective decision-making and risk optimization within the agency.

In its 2018-2022 iteration of its Strategic Plan, the NCUA adopted its first agency enterprise risk appetite statement, which is:

The NCUA is vigilant and has an overall judicious risk appetite. The NCUA's primary goal is to ensure the safety and soundness of the credit union system and the agency recognizes it is not desirable or practical to avoid all risk. Acceptance of some risk is often necessary to foster innovation and agility. This risk appetite will guide the NCUA's actions to achieve its strategic objectives in support of providing, through regulation and supervision, a safe and sound credit union system, which promotes confidence in the national system of cooperative credit.

The agency's risk appetite will help align risks with opportunities when making decisions and allocating resources to achieve the agency's strategic goals and objectives. This enterprise risk appetite statement is part of the NCUA's overall management approach and is supported by detailed appetite statements for individual risk areas.

In practice, this means that the NCUA recognizes that risk is unavoidable and sometimes inherent in carrying out the agency's mandate. The NCUA is positioned to accept greater risks in some areas than in others; however, when consolidated, the risk appetite should be within the boundaries established for the entire agency. Cross-collaboration across programs and functions is a fundamental piece of ensuring the agency stays within its risk appetite boundaries. The NCUA will identify, assess, prioritize, respond to and monitor risks to an acceptable level. This budget proposal for 2019/2020 incorporates the NCUA's enterprise risk management program and agency risk appetite in recommending how best to allocate its resources.

IV. Key Themes of the 2019-2020 Budget

Overview

The budget supports the priorities and goals outlined in the agency's annual performance plan and the NCUA Strategic Plan 2018-2022 (https://www.ncua.gov/About/Documents/AgendaItems/AG20160721Item2b.pdf). The resources and new initiatives proposed in the budget support the NCUA's mission to maintain a safe and sound credit union system.

The 2019-2020 budget carries forward a number of key ongoing initiatives, which include: The Exam Flexibility Initiative; the increased use of off-site examinations work and data analytics; the modernization of information technology systems; regulatory reform initiatives; and efforts to implement organizational efficiencies. Over the course of the next five years, these efforts will result in a more effective and efficient organization.

In the 2019-2020 budget, the NCUA continues to reduce its staffing, reflecting greater operational efficiency at the agency. The NCUA employees are the agency's most valuable resource for achieving its mission, and the agency is committed to a workplace and a workforce with integrity, accountability, transparency, inclusivity, and proficiency. As the NCUA continues its efforts to curb expenses and reduce overhead costs, we will continue investing in the workforce through training and development, helping employees develop the tools they need to do their work effectively.

At the same time, managing the size of the workforce is important from a budgetary standpoint, because employment-related costs are the single largest driver of the NCUA budget. As discussed in this document, the NCUA continues to use workload models to estimate the amount of time necessary to conduct examinations and supervise federally insured credit unions. This analysis results in an estimate of the staffing level required to carry out the NCUA's dual mission as insurer and regulator. The NCUA continues to assess and balance its mission workload needs with the financial costs the agency imposes on the credit union system. Although the number of credit unions continues to decline nationwide, the NCUA must also consider the increasing complexity and growing asset base of the entire credit union system.

The efficiency and effectiveness of the agency's workforce is dependent upon the resiliency of the NCUA's information technology infrastructure and availability of technological applications. The NCUA is committed to implementing new technology responsibly and delivering secure, reliable and innovative technological solutions to support its mission. This necessitates investments funded in the Capital Budget, to provide the analytical tools and technology the workforce needs to achieve the NCUA mission.

Reorganization/Restructuring

In July 2017, the NCUA's executive leadership committed to a bold plan that would invest in the agency's future, make critical organizational alignment changes, and reduce overall staffing of the agency. The Board approved a series of operational actions to improve the NCUA's efficiency, effectiveness, and focus on its core mission responsibilities.

The NCUA's reform plan positioned the agency to meet the ongoing changes in the industry it regulates and insures. The U.S. financial sector is subject to continuing advancements and emerging risks, which necessitate changes in the way the NCUA conducts its business. Advancements in the type and quantity of data available also demands a fresh way of thinking about our business model. At the same time, the continuing reality of smaller credit unions merging with larger ones, while existing credit unions grow significantly in size and complexity, requires an even more strategic, nimble and innovative way to carry out our responsibilities as established in the Federal Credit Union Act.

As a result of the NCUA's on-going implementation of its reform plan:

• The NCUA created an office focused exclusively on new charters and credit union expansion—the Credit Union Resources and Expansion (CURE) Office.

• The NCUA is lowering the agency's authorized staffing level from 1,247 positions in the 2016 approved budget, down to 1,178 in the 2019 budget, a reduction of 69 positions, or nearly 6 percent.

• Leased office space is being reduced by 80 percent.

• Examination reports are being improved through implementing enhanced quality measures.

• Two regional offices will close in January 2019.

• AMAC's staffing has been reduced, and support functions are now carried out by the central office.

The agency is on-track to meet the staffing reduction targets and other key outcomes identified in the reform plan. These actions are predicated on the understanding that the industry is consolidating and becoming more complex at the same time. The NCUA continues to examine how to best reshape its workforce to meet future needs, and to look for ways to contain operating costs to create a more efficient organization.

Modernizing the Examinations Process

In August 2018, the NCUA issued Letter to Credit Unions: 18-CU-01- “Examination Modernization Initiatives.” This letter outlined five initiatives the NCUA Board approved to modernize the agency's examinations processes. Some of the intended benefits of these initiatives are:

• More efficient examinations and supervision

• Reduced burden on credit unions

• More consistent and accurate supervisory determinations

• Greater ability to adapt to changes in the marketplace and credit union business models

• Enhanced coordination with State Supervisory Authorities

• Reduced travel costs

• Improved quality of life for examiners

• More secure, reliable, and flexible technology foundation able to support future expansion capabilities

These five initiatives are interrelated and complement each other. As these initiatives support and build upon each other, they will ultimately result in a fully modernized examination and supervision program with various incremental improvements occurring along the way. Throughout this budget, the NCUA aligns its resources in support of these improvements. Below is a more in-depth discussion of each of the initiatives:

Flexible Examination Program (FLEX). FLEX is a pilot program in the Southern Region. FLEX is evaluating conducting offsite certain existing exam procedures. The pilot was developed to assess examiners working remotely on elements of examinations of well-run credit unions that have the technology and platforms to provide electronic data securely. This program reflects the NCUA's most immediate solution to the agency's efforts to reduce, but not eliminate, onsite presence during exams.

In 2017, the NCUA tested the pilot with five examiner groups in 28 credit unions located in a variety of geographical locations. The pilot was tested on credit unions as small as $4 million in assets to those as large as $9.4 billion in assets.

Preliminary results from the pilot show cost savings to the NCUA, realized in part by reducing travel time and costs for examiners. In designated FLEX reviews, over 35 percent of the total exam hours were performed offsite. Credit union feedback has also been positive, with the majority of credit unions reporting positive experiences with the modified exam approach.

However, the pilot identified the need for the NCUA to have a secure file transfer portal to support much of this offsite work efficiently. The secure file transfer portal was fully deployed in July 2018. The agency is currently testing the portal and expects to move forward developing plans to increase agency use of offsite procedures.

ONES Data-Driven Supervision. This initiative began in 2018 as an effort to move to a continuous supervision model for the large, natural-person credit unions supervised by the Office of National Examinations and Supervision. The continuous supervision model will use data-driven analytics to monitor and identify credit union risk while supporting the transition to credit union-driven stress testing. The data-driven supervision initiative may lead to analytical advancements that can be adapted for supervising some or all other insured credit unions.

Shared NCUA-State Regulator Federally-Insured State Credit Unions (FISCU) Program. In 2017, the NCUA created the Joint NCUA-State Supervisor Working Group (working group), which is tasked with improving coordination and scheduling for joint exams, providing scheduling flexibility, and reducing redundancy where possible. The group's goal is to minimize the burden on FISCUs resulting from having a separate financial regulator and insurer.

In addition, the working group is evaluating the efficacy, appropriateness, and feasibility of adopting an alternating-year examination approach for FISCUs. A pilot program is under development and will allow the NCUA, state regulators, and stakeholders to evaluate the benefits and challenges of an alternate-year examination program. The pilot will need to run about three years in order to evaluate one full alternating-year exam cycle, and will provide valuable insight into the advantages and risks of such an approach prior to finalizing a decision about a permanent alternating-year exam cycle.

For joint examinations of FISCUs, the working group is also exploring ways to minimize duplication and overlap through process improvements and greater use of technology. In addition, the working group is evaluating other areas of potential duplication that can be reduced or eliminated, such as loan participations, CUSO and third party vendor reviews, and other supervisory matters. The goal of these reviews is to better leverage the work of each regulatory party in examining and supervising FISCUs.

Enterprise Solution Modernization (ESM). In November 2015, the NCUA Board authorized the ESM program. This effort will replace legacy applications such as the examination system (AIRES) and the Call Report data collection tool (CU Online). ESM will also introduce emerging and secure technology that supports the NCUA's examination, data collection, and reporting efforts. The result will be a flexible technology architecture that integrates modernized systems and tools across the agency. The new systems will streamline processes and procedures helping create a more effective, less burdensome process.

ESM will also provide essential upgrades to the NCUA's technology foundation that supports the FLEX and Virtual Exam efforts with:

• More efficient ways to securely communicate with credit unions.

• Updated tools such as workflow management, data integration, document management, and customer relationship management capabilities.

• A flexible framework that will allow for integration of new solutions so the NCUA's supervisory systems can evolve with changes to regulations, data and analytical needs, and activities credit unions engage in.

The first of a series of technology upgrades from ESM are scheduled to begin in 2019. Throughout the multi-year implementation phase of this initiative, the NCUA will continue to provide updates and engage stakeholders.

Virtual Examination Program. In 2017, the NCUA Board approved the project and associated resources to research methods to conduct offsite as many aspects of the examination and supervision processes as possible. The virtual exam project team is researching ways to harness new and emerging data, advancements in analytical techniques, innovative technology, and improvements in supervisory approaches.

By identifying and adopting alternative methods to remotely analyze much of the financial and operational condition of a credit union, with equivalent or improved effectiveness relative to current examinations, it may be possible to significantly reduce the frequency and scope of onsite examinations. Onsite examination activities could potentially be limited to periodic data quality and governance reviews, interventions for material problems, and meetings or other examination activities that need to be handled in person.

The virtual exam should lead to greater use of standardized interaction protocols, advanced analytical capabilities, and more-informed subject matter experts. This should result in more consistent and accurate supervisory determinations, provide greater clarity and consistency with respect to how the agency conducts supervisory oversight, and reduce coordination challenges between agency and institution staff.

To be successful, it is likely examination staff will need to analyze more information about the credit union being examined and communicate more frequently with management at the credit union. However, it is not the agency's intent to intervene in credit unions' day-to-day operations or strategic planning.

The virtual examination team will deliver to the NCUA board by the end of 2020 a report discussing alternative methods identified to remotely analyze aspects of the financial and operational condition of a credit union. For credit unions that are compatible with this approach, the agency's goal is to transform the examination and supervision program into a predominately virtual one within the next five to ten years. The transformation is expected to occur through incremental adoption of the corresponding new techniques and approaches.

Reducing Regulatory Burden

The NCUA established a Regulatory Reform Task Force (Task Force) in March 2017 to oversee implementation of the agency's regulatory reform agenda. This is consistent with the spirit of Executive Order 13777 and the Trump administration's regulatory reform agenda. Although the NCUA, as an independent agency, is not required to comply with Executive Order 13777, the agency chose to review all of the NCUA's regulations, consistent with the spirit of initiative and the public benefit of periodic regulatory review. The Task Force published and sought comment on its first report in August 2017.

The NCUA has undertaken a series of regulatory changes as part of this effort, and continues to pursue a regulatory reform agenda, including matters such as advertising, field of membership, equity distribution, and securitization. The task force is in the process of preparing its second report, which should be issued in late 2018 or early 2019.

V. Operating Budget

Overview

The NCUA Operating Budget is the annual resource plan for the NCUA to conduct activities prescribed by the Federal Credit Union Act of 1934. These activities include: (1) Chartering new Federal credit unions; (2) approving field of membership applications of Federal credit unions; (3) promulgating regulations and providing guidance; (4) performing regulatory compliance and safety and soundness examinations; (5) implementing and administering enforcement actions, such as prohibition orders, orders to cease and desist, orders of conservatorship and orders of liquidation; and (6) administering the National Credit Union Share Insurance Fund (NCUSIF or the Share Insurance Fund).

The NCUA funds its activities through operating fees levied on all Federal credit unions and through reimbursements from the Share Insurance Fund, which is funded by both Federal credit unions and federally-insured state-chartered credit unions.

As outlined in the NCUA Letter to Credit Unions 18-CU-01, dated August, 2018, there are several examination modernization initiatives in process to improve how the agency conducts examinations and supervision. The goals of these initiatives are to replace outdated, end-of-life examination systems, streamline processes, adopt enhanced examination techniques, and leverage new technology and data to maintain high quality supervision of insured credit unions with less on site presence. Modernizing agency systems and processes will reduce the burden on the credit union community and increase the effectiveness of the NCUA.

Staffing

The staffing levels proposed for 2019 reflect the resource requirements for steady state operations at the NCUA as it implements the agency reform plan and modernizes the examination process. The estimated resource level will fund the appropriate workload balance that supports extended exam cycles and enhanced examinations. The new positions supported by the budget include a Business Data Lead, two Business Innovation Officers, a Bank Secrecy Act Specialist, a Financial Technology Analyst, two Enforcement and litigation attorneys, and one Regulations and Legislation attorney. There will be a realignment of three regional office vacancies to offset three of the new positions.

In 2019, the agency is also establishing the Office of Business Innovation to lead the Enterprise Solution Modernization (ESM) program, as well as other modernization and business enterprise initiatives outside the scope of ESM. This includes the agency's initiative to modernize the member loan and share download, advance the information security program, and enhance analytics through data management. Previously, the employees assigned to Business Innovation were included in the Office of the Executive Director. By creating the new office structure, the budget will more clearly delineate these expenses and be more transparent to interested parties.

The budget for 2019 supports a total agency staffing level of 1,178 personnel. This is a net decrease of ten positions from the Board-approved level for 2018, or a decrease of 0.8 percent.

BILLING CODE 7535-01-P

BILLING CODE 7535-01-C

Request for New Staff in 2019

Business Data Lead (1 Position Reallocated From Regional Vacancies)

The Office of Business Innovation requires one full-time position to serve as the Business Data leader who will drive implementation of an agency-wide analytic data strategy and governance framework. This work will include: (1) Chairing an enterprise analytic data council; (2) supervising three enterprise data stewards; (3) working with contract consultants to assist the council and data stewards; (4) piloting the enterprise data strategy and governance framework; (5) initiating the enterprise data office study; and (6) recommending and running a future state for enterprise data management.

Business Innovation Officers (2 Positions Reallocated From Regional Vacancies)

The Office of Business Innovation requires two Business Innovation Officers to conduct the daily work to support development of an agency-wide analytic data strategy and governance framework, including: (1) Creating and executing a data governance framework, (2) defining business requirements to ensure initial proper configuration of the NCUA's analytic data repository, (3) researching data information to update the NCUA's data dictionary and develop data lineage requirements, and (4) working with system owners and other stakeholders to resolve conflicts and facilitate acceptance into the data framework.

Bank Secrecy Act Specialist (+1 New Position)

The Office of Examination and Insurance requires a full-time position to support Bank Secrecy Act (BSA) policies and workload requirements. The BSA has consumed considerable attention within the NCUA and throughout the government's regulatory responsibilities for the financial services industry. Interagency planning and policy development groups have already created significant new workload for the NCUA. This additional workload is expected to continue as the interagency groups develops new supervisory policies, coordinate BSA-related rulemaking, implement industry and supervisory guidance, and conduct industry outreach.

Financial Technology Analyst (+1 New Position)

The Office of the Chief Economist requires one new employee to research new financial technology innovations and organize and lead a working group to review these emerging technologies. This position will also expand the NCUA's policy expertise in cryptocurrencies.

Enforcement and Litigation Attorneys (+2 New Positions)

The Office of General Counsel requires two additional attorneys in the Enforcement and Litigation Division to support the agency and enable attorneys to work more collaboratively as supervisory offices' formal enforcement actions are being considered and planned. These additional employees will help improve the NCUA's overall enforcement process by focusing support and investigatory efforts more strategically and earlier in the enforcement process.

Regulations and Legislation Attorney (+1 New Position)

The Office of General Counsel requires an additional attorney for the Division of Regulations and Legislation. This attorney will focus on the review of legislation, provide technical drafting assistance for legislation when necessary, write responses to Congressional and interagency inquiries, and assist in drafting both oral and written testimony for Congressional hearings. The new attorney will also coordinate legislative efforts with other public and Congressional Affairs staff at the NCUA.

Budget Category Descriptions and Major Changes

There are five major expenditure categories in the NCUA's budget. This section explains how these expenditures support the NCUA's operations, and presents a transparent and comprehensive accounting of the Operating Budget.

BILLING CODE 7535-01-P

BILLING CODE 7535-01-C

Salaries and Benefits

The budget includes $222.8 million for employee salaries and benefits in 2019. This change is a $2.1 million, or 1.0 percent, increase from the 2018 Board Approved Budget.

Salaries and benefits make up 73 percent of the total budget. The primary driver of increased costs in the Salaries and Benefits category is merit and locality pay increases for the NCUA's 1,173 personnel paid from the Operating Budget, in accordance with the agency's current Collective Bargaining Agreement (CBA) and its merit-based pay system. In 2019, the NCUA's compensation levels will continue to “maintain comparability with other federal bank regulatory agencies,” as required by the Federal Credit Union Act.⁸ The Salaries and Benefits category of the budget includes all employee pay raises for 2019, such as merit and locality increases, and those for promotions, reassignments, and other changes, as described below.

⁸ The Federal Credit Union Act states that, “In setting and adjusting the total amount of compensation and benefits for employees of the Board, the Board shall seek to maintain comparability with other [f]ederal bank regulatory agencies.” See 12 U.S.C. 1766(j)(2).

Consistent with other federal pay systems, the NCUA's compensation includes base pay and locality pay components. The NCUA staff will be eligible to receive an average merit-based increase of 3.0 percent, and an additional locality adjustment ranging from zero to 3.0 percent, depending on location. The average increase in locality pay is estimated to be 1.4 percent. Starting in 2019, the NCUA discontinued the annual, general pay scale increase of 1.25 percent in accordance with recent CBA negotiations. By merging the general pay scale increase into the annual merit-based pay increase, the NCUA expects to better reward employee performance while reducing future year payroll growth.

The first-year cost of the new positions added in 2019 is estimated to be $1.0 million, or approximately half the annual salaries and benefits associated with the positions since these new employees will be hired throughout the year. The full-year salaries and benefits costs of these employees will approximately double in 2020. Specific increases to individual offices' pay and benefits budgets will vary based on current pay levels, position changes, and promotions.

Personnel compensation at the NCUA varies among every office and region depending on work experience, skills, years of service, supervisory or non-supervisory responsibilities, and geographic locations. In general, more than 85 percent of the NCUA workforce has earned a bachelor's degree or higher, compared to approximately 35 percent of the private-sector workforce. This high level of educational achievement ensures the NCUA workforce is able to fulfill its mission effectively and efficiently, and attracting a well-qualified workforce requires the agency to pay employees competitive salaries.

Individual employees' compensation varies, depending on the cost of living in the location where the employee is stationed. The federal government sets locality pay standards, which are managed by the President's PayAgent—a council established to make recommendations on federal pay. The council uses data from the Occupational Employment Statistics program, collected by the Bureau of Labor Statistics, to compare salaries in over 30 metropolitan areas, and establishes recommendations for equitable adjustments to employee salaries to account for cost-of-living differences between localities.

The Office of Personnel Management (OPM) economic assumptions for actuarial valuation of the Federal Employees Retirement System (FERS) remains unchanged in 2019, so all federal agencies are expected to contribute 13.7 percent of FERS employees' salary to the OPM retirement system. This mandatary contribution is expected to increase to 16.0 percent, or +230 basis points, in 2020, consistent with published actuarial updates. This change will result in an estimated $3.5 million in additional, mandatory retirement-related payments by the NCUA to OPM.

The average health insurance costs for the Federal Employees Health Benefits program for 2019 are consistent with historical actual expenses. The employee pay and benefits category also includes costs associated with other mandatory employer contributions such as Social Security, Medicare, transportation subsidies, unemployment, and workers' compensation. Notably, charges from the U.S. Department of Labor (DOL) for the NCUA's workers' compensation claims increased by nearly $250,000 between 2018 and 2019. DOL manages the workers' compensation system for all federal agencies.

The 2019 budget reflects a $4.0 million reduction, or the equivalent of a two percent vacancy rate (21 positions) during the year. This aligns with the NCUA's most recent attrition rates and the recruitment and retention challenges the agency expects to face in the current, high-employment labor market. The effect of this adjustment lowers the NCUA budget and results in reduced fees collected from credit unions.

The 2020 budget request for salaries and benefits is estimated at $233.6 million, a $10.8 million increase from the 2019 level, which accounts for merit and locality increases consistent with the CBA (approximately $6.3 million), the full-year cost impact of new positions (approximately $1 million), and the mandatory FERS retirement contributions to OPM (approximately $3.5 million).

Travel

The 2019 budget includes $26.8 million for Travel. This change is a $326,000, or 1.2 percent, increase to the 2018 Board Approved Budget. Travel comprises approximately nine percent of the overall 2019 budget. The cumulative reduction of the credit union examiner positions compared to past years, extended examination cycles, and increased use of offsite examinations all help contain the NCUA's travel costs. However, the General Services Administration has announced an increase of nearly eight percent for per diem rates in 2019, which drives the growth of estimated travel expenses in 2019.

The Travel cost category includes expenses for employees' airfare, lodging, meals, auto rentals, reimbursements for privately owned vehicle usage, and other travel-related expenses. These are necessary expenses for examiners' onsite work in credit unions. Close to two-thirds of the NCUA's workforce is comprised of field staff who spend a significant part of their year traveling to conduct the examination and supervision program.

The NCUA staff also travel for training, and there will be minor increases to training-related travel expenses to support field exams. For example, technical experts such as payment system, capital market, and lending specialists will assist field examiners with program examinations and training, while consumer access analysts will provide support on field consumer compliance issues and follow-up field assessments of business marketing plans for field-of-membership expansions.

The 2020 budget request for travel is estimated at $27.8 million, a $1 million increase to the 2019 level, which accounts for a national program examination training event. This one-time training conference is anticipated to coincide with full deployment of the new Examination and Supervision Solution system.

The NCUA plans to evaluate future cost avoidance for travel through continued expansion of offsite examination work. In addition, agency personnel will continue to utilize more virtual training options, where appropriate, to help minimize travel expenses.

Rent, Communications, and Utilities

The 2019 budget includes $8.0 million for Rent, Communications, and Utilities. This is a $445,000 reduction, or five percent less than the 2018 Board Approved Budget. The Rent, Communications, and Utilities category is the smallest component of the NCUA's budget and funds the agency's telecommunications and information technology network expenses, and facility rental costs. The agency telecommunications expense for 2019 is $3.2 million. Office building leases, meeting rentals, office utilities, and postage expenses are also included in this budget category. Facility costs total $2.6 million for 2019, which is $600,000 less than the prior year budget due to the closure of regional offices in Atlanta, Georgia and Albany, New York. Facility costs also include the NCUA's annual payment of $1.3 million to the Share Insurance Fund for its central office note, which is scheduled to be fully repaid in 2023.

The 2020 budget request for the Rent, Communications, and Utilities category is $8.0 million, and is unchanged from 2019. Additional savings from lease terminations are expected in 2021, once Eastern Region personnel are co-located in the NCUA-owned central office building.

Administrative Expenses

The 2019 budget includes $8.7 million for Administrative Expenses. This is an increase of $1.2 million, or 16 percent, compared to the 2018 Board Approved Budget. Recurring costs in the Administrative Expenses category include the annual reimbursement to the Federal Financial Institutions Examination Council (FFIEC), employee relocation expenses, recruitment and advertising, shipping, printing, subscriptions, examiner training and meeting supplies, office furniture, and employee supplies and materials.

Service contracts, maintenance fees, and end-user licensing for computer software and database management applications will cost $3.8 million in 2019. This includes annual software licenses and maintenance support fees for the call center managed by the Office of Consumer Financial Protection. This line item represents a $435,000 increase over the prior year budget to support purchases of critical financial and information services subscription services to manage risk.

As part of the FFIEC, the NCUA shares in costs for joint actions and services that affect the financial services industry. These costs are largely outside of the NCUA's control and are estimated at $1.4 million in 2019, which is $100,000 more than 2018.

Employee relocation expenses are adjusted in 2019 to reflect the historical average annual expenditures of $750,000. This is a $500,000 increase over the 2018 Board Approved Budget, which was lower than historical averages because of one-time agency reorganization funding set aside for relocations in 2018.

Due to reformed business processes and improved financial controls, costs for printing. Meeting support costs are estimated to be $150,000 less than in 2018.

Contracted Services

The 2019 budget includes $38.1 million for Contracted Services. This is a $3.1 million, or nine percent, increase compared to the 2018 Board Approved Budget.

The Contracted Services budget category includes costs incurred when products and services are acquired in the commercial marketplace. Acquiring specific expertise or services from contract providers is often the most cost-effective approach to fulfill the NCUA's mission. Such services include critical mission support such as information technology hardware and software development, accounting and auditing services, and specialized subject matter expertise that enable staff to focus on core mission execution.

The majority of funding in the Contracted Services category is related to the NCUA's priority to implement a robust supervision framework by identifying and resolving traditional risk concerns such as interest rate risk, credit risk, and industry concentration risk, as well as by addressing new and evolving operational risks such as cybersecurity threats. Growth in the contracted services budget category results primarily from new operations and maintenance costs associated with ongoing capital investments, such as replacements for the Automated Integrated Regulatory Examination System (AIRES) and CU Online. Other costs include core agency business operation systems such as for payroll processing, and various recurring costs, as described in the seven major categories, below:

Information Technology Operations and Maintenance (47 percent of contracted services)

—IT network support services and help desk support

—Contractor program and web support and network and equipment maintenance services

—Administration of software products such as Microsoft Office, Share Point and audio visual services

Administrative Support and Other Services (14 percent of contracted services)

—Examination and Supervision program support

—Technical support for examination and cybersecurity training programs

—Equipment maintenance services

—Legal services and other expert consulting support

—Other administrative mission support services for the NCUA central office

Accounting, Procurement, Payroll and Human Resources Systems (11 percent of contracted services)

—Accounting and procurement systems and support

—Human resources, payroll, and employee services

—Equal employment opportunity and diversity programs

Building Operations, Maintenance, and Security (9 percent of contracted services)

—Central office facility operations and maintenance

—Building security and continuity programs

—Personnel security and administrative programs

Information Technology Security (7 percent of contracted services)

—Enhanced secure data storage and operations

—Information security programs

—Security system assessment services

Training (7 percent of contracted services)

—Examiner staff technical and specialized training and development

—Senior executive and mission support staff professional development

Audit and Financial Management Support (5 percent of contracted services)

—Annual audit support services

—Material loss reviews

—Investigation support services

—Financial management support services

The following pie chart illustrates the breakout of the seven categories for the total contracted services budget of $38.1 million.

Major programs within the contracted services category include:

Training requirements for the examiner workforce. The NCUA's most important resource is its highly educated, experienced, and skilled workforce. It is important that staff have the proper knowledge, skills, and abilities to perform assigned duties and meet emerging needs. Each year, Credit Union Examiners attend several levels of training, including in core areas such as capital markets, consumer compliance, and specialized lending. The training deliverables for 2019 include classes offered by the Federal Financial Institutions Examination Council, new examiner classes, and subject matter expert training sessions for the NCUA examiners and state regulators.

Contracted service providers will develop and design several subject matter expert training classes for examiners and conduct a triennial review of several modules of the NCUA's core course curriculum. Additionally, regional and central office staff will conduct change management and teambuilding training exercises to help integrate new operations as a result of the Agency reorganization.

The NCUA's information security program supports ongoing efforts to strengthen cybersecurity and ensure compliance with the Federal Information System Management Act.

Agency financial management services, human resources technology support, and payroll services. The NCUA contracts for these back-office support services with the U.S. Department of Transportation's Enterprise Service Center (DOT/ESC) and the General Services Administration. A new service provider offers the NCUA's human resource system, HR Links, also adopted by many federal agencies, the shared solution automates routine human resource tasks and improves time and attendance functionality.

Audit. The NCUA Office of Inspector General contracts with an accounting firm to conduct the annual audit of the agency's four permanent funds. The results of these audits are posted annually on the NCUA website and also included as part of the agency's Annual Report.

A significant share of the budget for the Contracted Services category finances on-going infrastructure support for the agency. For example, the NCUA relies on recurring contracted services to maintain a number of the agency's systems including critical legacy systems such as AIRES and Credit Union Online. Several of the NCUA's core information technology systems and processes require additional contract support in 2019, which result in increased budgets in the Contracted Services category, as described below.

Within the budget for the Office of Chief Information Officer, an additional $3.2 million is required for various contractor support requirements in 2019, including:

• Contract Realignment $1.5M. Costs include transition to new Operations & Maintenance contract, increase in support skill set to cover service gap.

• New Capabilities & Modernization $1.0M. Costs include examination solution circuit's maintenance & program rent cost, new security tools implementation, and true-up for service management system licenses.

• Cost Inflation $0.5M. Costs include expected inflation for telecommunications, equipment repair and maintenance and contract services.

• AMAC Support $0.2M. Costs include establishing on-site information technology support for AMAC.

Within the budget for the Office of Chief Financial Officer, the annual fee paid to the Department of Transportation (DOT) for the NCUA's financial management system will increase by nearly $800,000 over the 2018 level. This is because DOT revised its cost allocation model for all of its financial system customers. In 2018, the NCUA also replaced its legacy human resources and time and attendance systems with a more modern platform called HR Links, which better supports the agency's workforce and personnel requirements. The 2019 cost for HR Links decreased from the 2018 level by $325,000 due to one-time start-up costs that were included in the 2018 Board Approved Budget.

VI. Capital Budget

Overview

The NCUA uses a rigorous process to identify the investment needs for information technology, facility improvements and repairs, and other multi-year capital investments. The NCUA staff review the agency's inventory of owned facilities, equipment, information technology systems, and information technology hardware to determine what requires repair, major renovation, or replacement. The staff then make recommendations for prioritized investments to the Executive Director and the NCUA Board.

Routine repairs and lifecycle-driven property renovations are necessary to properly maintain the investments in the NCUA's central office building in Alexandria, Virginia and the agency's owned office building in Austin, Texas. The NCUA facility manager assesses the agency's properties to determine the need for essential repairs, replacement of building systems that have reached the end of their engineered lives, or renovations required to support changes in the agency's organizational structure or to address revisions to building standards and codes.

Information technology (IT) systems and hardware are another significant capital expenditure for modern organizations. The 2019 budget includes significant investment in current and replacement IT systems. The NCUA Examination and Supervision Solution (ESS) project, for example, will replace the legacy Automated Integrated Regulatory Examination System (AIRES) system, and is the largest single capital investment in the 2019 budget. Other IT investments include ongoing enhancements and upgrades to decades-old legacy systems, incident and vulnerability management systems to enhance the agency's cybersecurity posture, and various hardware investments to refresh agency networks and ensure staff have the tools necessary to maintain and increase their productivity.

The NCUA's 2019 capital budget is $22.0 million. The capital budget includes long-term investment projects. The Information Technology Prioritization Council recommended $17.1 million for IT software development projects and $4 million in other IT investments for 2019. The NCUA facilities require $0.9 million in capital investments. Detailed descriptions of all 2019 capital projects, including a discussion of how each project helps the agency achieve its strategic goals and objectives, are provided in Appendix C.

Summary of Capital Projects

Examination and Supervision Solution and Infrastructure Hosting (ESS&IH) ($8.4 million). The purpose of the ESS&IH project is to implement a new, flexible, technical foundation to enable current and future NCUA business process modernization initiatives, and replace the NCUA's legacy exam system, AIRES, with a new Commercial-Off-The-Shelf (COTS) solution.

Data Collection Solution (DCS)/Enterprise Content Management (ECM) Analysis of Alternatives Study ($0.2 million). The purpose of this project is to award and complete an Analysis of Alternatives (AoA) to study the operational effectiveness, suitability, risks and life-cycle costs of alternative ECM solutions to support the NCUA's requirements for data collection, workflow, document management, customer relationship management and records management. An AoA needs to be completed to gather the requirements across these areas and to validate that the ECM solutions are the most effective and efficient way to meet the NCUA's data collection, document management, and records management needs.

Business Intelligence (BI) Tools and Capability Enhancement ($1.9 million). The purpose of this project is the collection, centralization, organization and storage of data collected by the Office of National Examination and Supervision (ONES) so that analysis is more accurate and efficient. This accessibility will integrate with BI tools to improve ONES's overall reporting and data analysis capabilities.

Enterprise Central Data Repository ($1.0 million). The Enterprise Central Data Repository (ECDR) project will implement a central data repository that will serve as the data integration point for Examination and Supervision Solution (ESS), ONES's analytic tools, the NCUA's legacy applications and the Data Collection Solution (DCS). The ECDR will become an enterprise solution for the NCUA allowing the agency to transition in a phased approach from the existing legacy databases to a cloud-based data repository serving the agency's needs.

Asset Management and Assistance Center (AMAC) Servicing System ($0.6 million). The purpose of this project is to enhance AMAC's legacy content management and servicing systems. Phase I of the project resulted in an enhanced, secure content management solution. During Phase II of the project, the NCUA will identify, acquire, and implement replacement solutions for AMAC's aging core data processor. The key project deliverables are the acquisition and deployment of a replacement core processing system.

Enterprise Data Analytics, Governance and Reporting Services ($0.6 million). The purpose of this project is the centralization, organization and storage of the NCUA data so analysis is more accurate, simple and easily distributed across the agency. This increased accessibility is combined with analytic tools to improve the NCUA's overall reporting and data analysis capabilities.

Asset and Liabilities Management Application ($3.2 million). The purpose of the Asset and Liabilities Management (ALM) application is for the NCUA to build internal analytical capabilities to run supervisory stress testing in house and to conduct regular quantitative risk assessments by procuring and configuring off-the-shelf analytical tools, models and software used commonly in stress testing and other risk management activities.

This effort delivers a complete solution that will focus on modernizing the NCUA's supervision tools and approaches, identifying material risks facing the covered credit unions, and tailoring resources to the material risks and risk focused exams. This effort will allow the NCUA to reduce the existing third party contractor's role to only consultation.

Enterprise Learning Management System Replacement ($0.6 million). The purpose of the Enterprise Learning Management System (LMS) Replacement project is to conduct market research, initiate an acquisition, create a project management plan, and execute the production and implementation of a cost-effective, cloud-based solution and training services that provides the NCUA with the full-range of eLearning functionality associated with a modern LMS. This will allow for enhanced examiner utilization and accessibility driven by quality content, ease of use and system reliability, role-based interface, ability to view personalized pages by role, centralized content, adherence to federally-mandated reporting requirements and records management adherence.

Governance, Risk Management, and Compliance (GRC) tool for Managing Compliance Information ($0.3 million). The purpose of the GRC Tool for Managing Compliance Information project is to acquire and implement a software platform that provides a structured repository for all system security and privacy documentation; security risk assessments; risk scoring; Plan of Actions and Milestones (POAM) management; and authorization workflow.

Financial Management Analysis of Alternatives ($0.35 million). The purpose of this project is to award and complete an Analysis of Alternatives (AoA) for federal financial management system service providers. The NCUA's current financial management system service provider—the Department of Transportation's Enterprise Service Center (ESC)—will increase the fee it charges the NCUA in 2019 by approximately $800,000, or 40 percent more than the 2018 charge. As a result, the NCUA plans to review alternative service providers to determine whether it is possible to achieve similar or better financial management results in a cost-effective manner.

Enterprise Laptop Lease ($0.8 million). The purpose of the Enterprise Laptop Refresh project is to provide the NCUA with a more efficient, mobile friendly, and secure tool to help employees better perform their jobs at a reasonable cost.

Information Technology Infrastructure, Platform and Security Refresh ($2.4 million). The purpose of the Information Technology (IT) Infrastructure, Platform and Security Refresh project is to refresh and/or replace routers, switches virtual servers, wireless, virtual private network, end of life and end of service components in order to ensure that the NCUA data is secure and operations are stable.

Security Management Tool Upgrades ($0.7 million). The purpose of the Security Management Tool Upgrades (Security Event and Incident Management (SEIM)) project is to optimize event collection, monitoring, detection and response capabilities for information security and IT operations, which will enable data-driven proactive management of the agency's cybersecurity programs.

The purpose of the Security Management Tool Upgrade (Patch & Vulnerability Management) project is to comply with the Department of Homeland Security's requirements for its Continuous Diagnostics and Mitigation (CDM) program, which sets standards for effective IT cybersecurity service management for Federal agencies.

Refresh End of Life VOIP Phone System ($0.2 million). The purpose of the Refresh End of Life Voice over internet Protocol (VoIP) Phone System project is to replace the agency's phone system infrastructure and endpoints, which is at end of its service life. The new system will ensure voice communications capabilities via a cloud solution that provides business continuity and stable operations.

The NCUA Central Office Heating, Ventilation, and Air Conditioning (HVAC) System Replacement ($0.75 million). The NCUA central office HVAC system replacement project will recapitalize the HVAC system in the agency's central office building, including all cooling towers, air handlers, boilers and HVAC components. The current HVAC system is original to the facility, 24 years old and obsolete. The current system is at the end of its usable life and it is not working efficiently.

The NCUA Austin, Texas Office Building Modernization ($0.15 million). In 2019, the NCUA plans to repair or replace several priority projects at the Austin, Texas office building. These capital improvements are required for the facility to continue routine and safe operations, and align with the life cycle replacement required for critical infrastructure.

VII. Share Insurance Fund Administrative Budget

Overview

The Share Insurance Fund Administrative budget funds direct costs associated with authorized Share Insurance Fund activities. As in 2018, the 2019 budget has been developed to reflect the closure of the Temporary Corporate Credit Union Stabilization Fund into the Share Insurance Fund. The direct charges to the Share Insurance Fund are combined with the NGN program and administrative costs, and represent total estimated costs to the Share Insurance Fund.⁹

⁹ Note these direct costs are exclusive of any costs that are shared with the Operating Fund through the Overhead Transfer Rate, and with payments available upon requisition by the Board, without fiscal year limitation, for insurance under section 1787 of this title, and for providing assistance and making expenditures under section 1788 of this title in connection with the liquidation or threatened liquidation of insured credit unions as it may determine to be proper.

The cost of the NCUA Guaranteed Notes (NGN) program and the Corporate System Resolution Program, including costs associated with the administration of those programs, will be funded from the Share Insurance Fund Administrative Budget. These costs have no impact on the NCUA's current and future Operating Fund budgets. The budget for the Share Insurance Fund also includes funding for expenditures previously authorized as direct expenses of the Share Insurance Fund for items such as state examiner computer leases and training. Other direct expenses include contract support for stress testing for certain large credit unions and financial audit support.

The 2019 total Share Insurance Fund Administrative budget is estimated to be $8.4 million, $0.3 million, or 3.5 percent, more than 2018. The budget increase is primarily driven by increased support required for data-driven analytics on stress testing that large credit unions perform, partially offset by savings in other cost categories. The Share Insurance Fund Administrative budget also funds five positions that were formerly part of the Stabilization Fund budget. These costs will enable the NCUA to continue supporting the NGN program, which includes managing legacy assets within the NGN trusts. Legacy assets consist of over 1,000 investment securities that are secured by residential mortgages and other assets.

The 2020 requested budget supports similar workload and resources; however, one additional stress test would be added and is estimated to cost $750 thousand. The total administrative budget estimate is estimated to be $9.1 million.

Budget Category Descriptions and Major Changes

Salaries and Benefits

The employee pay and benefits expense category for the Share Insurance Fund Administrative budget is estimated to be $1.24 million, which represents a decrease of $22,000 compared to 2018. This decrease is due to aligning the budget to actual payroll costs for staff on board. Personnel compensation is 15 percent of the total budget. The financial analysts on the NGN team have specialized technical expertise to manage the remaining $7 billion of legacy assets. Personnel costs are estimated in a manner similar to the operating budget.

Travel

The estimated travel cost of $52,000 is less than one percent of the overall 2019 budget and decreases by 31 percent from last year's budget estimate. These costs cover all of the travel expenses for the five staff that manage and support the NGN program. Two of the five staff are remote employees and are expected to travel periodically to the NCUA's central office.

Administrative Training

Training expenses, which represent less than one percent of the budget, are estimated to be $27,000, a decrease of $3,000 from the 2018 budget based on updated projections of employee professional development plans and specialized training requirements.

Support for the NGN Program (Contract Support)

Contract costs to support the NGN program, which represent 35 percent of the budget, are estimated to be $2.9 million, an increase of $0.3 million from the 2018 level. Funding is needed to fulfill Corporate System Resolution Program requirements and includes outside professional services such as external valuation experts, financial specialists, and accountants.

These experts are needed to assist the NCUA with the following types of services:

• Consulting Services in the amount of $1.0 million will support two NCUA offices: Examination and Insurance and the Chief Financial Officer. Services will include quarterly management reviews of asset valuations, as well as analyses of emerging issues. Support for the annual financial audit process and improvements in internal controls will also be provided by contractors. Tasks include: Supporting complex accounting and financial requirements for settlements, sale of legacy assets, parity payments, changing valuation model assumptions, and other asset disposition activities. Additionally, professional services will be used to assist with accounting, tax, financial reporting, and systems support for the corporate Asset Management Estates.

• Valuation Services in the amount of $1.1 million to fund valuation support for the NGN legacy assets. As supported by the NGN Oversight Committee, resources are also needed to conduct special analyses, including valuations for determining reasonable market prices for securities to be sold by auction.

• Software and Data Subscription Services in the amount of $0.8 million will support technical tools used to provide waterfall models, calculations, and metrics for the structured investment products underlying the NGN portfolio. The service provides coverage of all relevant asset classes, waterfall models that are seasoned and tested throughout the industry, and a broad array of calculations and metrics. Financial data analytics play a critical role in the surveillance, modeling, and pricing of the legacy assets that securitize the NGN Trusts, as well as supporting the management reviews that the NCUA performs on the cash flow projections. Now that some of the NCUA Guaranteed Notes have begun maturing, the NCUA has added data subscription services to provide additional valuation and has added support for the legacy asset disposition process.

• Other annual subscriptions provide important services related to surveillance of the portfolio of corporate bonds and mortgage-related bonds. Independent credit research services include fundamental capital structure research, credit analyses for surveillance of corporate bond portfolio and monoline insurer exposure, and direct access to various industry experts for discussion on specific credits.

Other Direct Expenses

Other direct expenses of the Share Insurance Fund represent close to 50 percent of the budget, and are estimated to be $4.1 million. The estimated costs for state examiner computer leases and training in the amount of $1.2 million is slightly lower than prior years. This will allow the NCUA to analyze the stress testing that large credit unions perform. By 2020, additional credit unions are anticipated to be subject to stress testing. Financial audit support is also expected to remain the same as prior years.

The NCUA website has a dedicated section that provides financial reports for the Share Insurance Fund,¹⁰ and a separate page that explains the NCUA Guaranteed Notes Program and provides comprehensive reporting and analysis on the legacy assets.¹¹

¹⁰ See: https://www.ncua.gov/services/Pages/share-insurance/reports.aspx.

¹¹ See: https://www.ncua.gov/regulation-supervision/Pages/guaranteed-notes.aspx.

VIII. Financing the NCUA Programs

Overview

As part of the annual budgetary process, the NCUA remains mindful that its operating funding comes directly from federal and state chartered credit unions. The agency strives to ensure that any allocation of these funds follows a thorough review of the necessity of the expenditures and whether programs are operating in an efficient, effective, transparent, and fully accountable manner.

To achieve its statutory mission, the NCUA incurs various expenses, including those involved in examining and supervising federally insured credit unions. The NCUA Board adopts an Operating Budget, including the Capital Budget, in the fall of each year to fund the vast majority of the costs of operating the agency.¹² The Federal Credit Union Act authorizes two primary sources to fund the Operating Budget:

¹² Some costs are directly charged to the Share Insurance Fund when appropriate to do so. For example, costs for training and equipment provided to State Supervisory Authorities are directly charged to the Share Insurance Fund.

(1) Requisitions from the Share Insurance Fund “for such administrative and other expenses incurred in carrying out the purposes of [Title II of the Act] as [the Board] may determine to be proper”; ¹³ and

¹³ 12 U.S.C. 1783(a).

(2) “fees and assessments (including income earned on insurance deposits) levied on insured credit unions under [the Act].” ¹⁴ Among the fees levied under the Act are annual Operating Fees, which are required for federal credit unions under 12 U.S.C. 1755 “and may be expended by the Board to defray the expenses incurred in carrying out the provisions of [the Act,] including the examination and supervision of [federal credit unions].”

¹⁴ 12 U.S.C. 1766(j)(3). Other sources of income for the Operating Budget have included interest income, funds from publication sales, parking fee income, and rental income.

Taken together, these dual authorities effectively require the Board to determine which expenses are appropriately paid from each source while giving the Board broad discretion in allocating expenses.

In 1972, the Government Accountability Office recommended the NCUA adopt a method for properly allocating Operating Budget costs—that is, the portion of the NCUA's budget funded by requisitions from the Share Insurance Fund and the portion covered by Operating Fees paid by federal credit unions.¹⁵ The NCUA has since used an allocation methodology, known as the Overhead Transfer Rate (OTR), to determine how much of the Operating Budget to fund with a requisition from the Share Insurance Fund.

¹⁵ http://www.gao.gov/assets/210/203181.pdf.

To allocate agency expenses between these two primary funding sources, the NCUA uses the OTR methodology. The OTR is the formula the NCUA uses to allocate insurance-related expenses to the Share Insurance Fund under Title II. Almost all other operating expenses are collected through annual Operating Fees paid by federal credit unions.¹⁶

¹⁶ Annual Operating Fees must “be determined according to a schedule, or schedules, or other method determined by the NCUA Board to be appropriate, which gives due consideration to the expenses of the [NCUA] in carrying out its responsibilities under the [Act] and to the ability of [FCUs] to pay the fee.” 1755(b).

Two statutory provisions directly limit the Board's discretion with respect to Share Insurance Fund requisitions for the NCUA's Operating Budget and, hence, the OTR. First, expenses funded from the Share Insurance Fund must carry out the purposes of Title II of the Act, which relate to share insurance.¹⁷ Second, the NCUA may not fund its entire Operating Budget through charges to the Share Insurance Fund.¹⁸ The NCUA has not imposed additional policy or regulatory limitations on its discretion for determining the OTR.

¹⁷ 12 U.S.C. 1783(a).

¹⁸ The Act in 12 U.S.C. 1755(a) states, “[i]n accordance with rules prescribed by the Board, each [federal credit union] shall pay to the [NCUA] an annual operating fee which may be composed of one or more charges identified as to the function or functions for which assessed.” See also 12 U.S.C. 1766(j)(3).

Overhead Transfer Rate (OTR) Methodology

The NCUA undertook a multi-year process to simplify and make more transparent its OTR methodology.¹⁹ The OTR is designed to cover the NCUA's costs of examining and supervising the risk to the Share Insurance Fund posed by all federally insured credit unions, as well as the costs of administering the fund. The OTR represents the percentage of the agency's operating budget paid for by a transfer from the Share Insurance Fund. Federally insured credit unions are not billed for, and do not have to remit, the OTR amount; instead, it is transferred directly to the Operating Fund from the Share Insurance Fund. This transfer, therefore, represents a cost to all federally insured credit unions.

The NCUA Board approved the current methodology for calculating the OTR at its November 2017 open meeting. The current methodology is principles-based, simpler, more equitable and transparent, and will result in lower administrative costs.

The OTR formula is based on the following underlying principles to allocate agency operating costs:

1. Time spent examining and supervising federal credit unions is allocated as 50 percent insurance related.²⁰

2. All time and costs the NCUA spends supervising or evaluating the risks posed by federally insured state-chartered credit unions or other entities the NCUA does not charter or regulate (for example, third-party vendors and CUSOs) is allocated as 100 percent insurance related.²¹

3. Time and costs related to the NCUA's role as charterer and enforcer of consumer protection and other non-insurance based laws governing the operation of credit unions (like field of membership requirements) are allocated as 0 percent insurance related.²²

4. Time and costs related to the NCUA's role in administering federal share insurance and the Share Insurance Fund are allocated as 100 percent insurance related.²³

These four principles are applied to the activities and costs of the agency, which results in the portion of the agency's Operating Budget that is transferred from the Share Insurance Fund. Based on the Board-approved methodology, the OTR for 2019 is estimated to be 60.4 percent; thus, 60.4 percent of the total operating budget is estimated to be paid out of the Share Insurance Fund. The remaining 39.6 percent of the Operating Budget is estimated be paid for through the FCU Operating Fee. The explicit and implicit distribution of total Operating Budget costs for FCUs and federally insured, state-chartered credit unions (FISCUs) is as follows:

Est. share of the operating budget covered by: | FCUs | FISCUs
FCU Operating Fee | 39.6% | 0.0%
OTR × Percent of Insured Shares | 31.0% (60.4% × 51.3%) | 29.4% (60.4% × 48.7%)
Total | 70.6% | 29.4%

In terms of accounting for funds transferred from the Share Insurance Fund to the Operating Fund, the OTR is applied to actual expenses incurred each month. Therefore, the rate calculated by the OTR formula is multiplied by each month's actual operating expenses and charged to the Share Insurance Fund. Because of this monthly reconciliation to actual operating expenditures, when the NCUA's expenditures are less than budgeted, the amount charged to the Share Insurance Fund is also less—and those lower expenditures benefit both federally chartered and state charted credit unions.

¹⁹ 82 FR 55644 (Nov. 22, 2017).

²⁰ The 50 percent allocation mathematically emulates an examination and supervision program design where the NCUA would alternate examinations, and/or conduct joint examinations, between its insurance function and its prudential regulator function if they were separate units within the NCUA. It reflects an equal sharing of supervisory responsibilities between the NCUA's dual roles as charterer/prudential regulator and insurer given both roles have a vested interest in the safety and soundness of federal credit unions. It is consistent with the alternating examinations FDIC and state regulators conduct for insured state-chartered banks as mandated by Congress. Further, it reflects that the NCUA is responsible for managing risk to the Share Insurance Fund and therefore should not rely solely on examinations and supervision conducted by the prudential regulator.

²¹ The NCUA does not charter state-chartered credit unions nor serve as their prudential regulator. The NCUA's role with respect to federally insured state-chartered credit unions is as insurer. Therefore, all examination and supervision work and other agency costs attributable to insured state-chartered credit unions is allocated as 100 percent insurance related.

The following chart illustrates the share of the Operating Budget paid by Federally Insured Credit Unions (FCUs, 70.6%) and Federally Insured, State-Chartered Credit Unions (FISCUs, 29.4%).

²² As the federal agency with the responsibility to charter federal credit unions and enforce non-insurance related laws governing how credit unions operate in the marketplace, the NCUA resources allocated to these functions are properly assigned to its role as charterer/prudential regulator.

²³ The NCUA conducts liquidations of credit unions, insured share payouts, and other resolution activities in its role as insurer. Also, activities related to share insurance, such as answering consumer inquiries about insurance coverage, are a function of the NCUA's role as insurer.

Operating Fee

The Board delegated authority to the Chief Financial Officer to administer the methodology approved by the Board for calculating the Operating Fees, and to set the fee schedule as calculated per the approved methodology outlined in this section. There is no change to the underlying approved Operating Fee methodology for 2019; the change in the assessments for 2019 are due to changes in the OTR rate and to indexing the fee schedule for projected asset growth.

For 2019, based on the OTR methodology discussed above, the resulting share of the budget that is funded from the Operating Fee is $140.859 million. This equates to 0.0185 percent of the estimated federal credit union assets for December 2018. The overall increase for the operating fee is 2.2 percent over 2018.

The Operating Fee will be assessed to federal credit unions based on estimated year-end assets. Credit unions with assets less than $1 million will not be assessed an Operating Fee. To set the assessment scale for 2019, federal credit union asset growth will be projected through December 31, 2018. Based on the June 30, 2018, Call Report data, annual growth is projected to be 6.2 percent at year end. The asset level dividing points will be increased by this same projected growth rate. Assets are indexed annually to preserve the same relative relationship of the scale to applicable asset base.

To establish the rate applicable to each asset level, the factors outlined in the table below result in an average Operating Fee rate increase of 2.2 percent for natural person federal credit unions. The corporate federal credit union rate scale remains unchanged from prior years.

To illustrate the rate impact for federal credit unions with assets under $1.5 billion, the fee increases from $264 per one million dollars of assets, to $270 per one million dollars of assets. This is an increase of $6 per million dollars of assets, or 2.2 percent.

Federal credit union assets between $1.5 billion and $4.5 billion would be assessed at a rate of $78.69 per million, and assets above $4.5 billion would be assessed at $26.28 per million. As noted above, these tiers were indexed to the 6.2 percent projected asset growth, and the rates are increased by 2.2 percent.

The following tables illustrate the methodology and calculations used to develop the Operating Fee.

IX. Appendix A: Supplemental Budget Information

X. Appendix B: Capital Projects

By the National Credit Union Administration Board on September 26, 2018.
Gerard S. Poliquin,
Secretary of the Board.

[FR Doc. 2018-21282 Filed 10-1-18; 8:45 am]

BILLING CODE 7535-01-P